DEPARTMENT OF HEALTH AND HUMAN SERVICES

National Institutes of Health

Clinical Center; Notice of Closed Meeting

Pursuant to section 1009 of the Federal Advisory Committee Act, as amended, notice is hereby given of a meeting of the Board of Scientific Counselors of the NIH Clinical Center.

The meeting will be closed to the public as indicated below in accordance with the provisions set forth in section 552b(c)(6), Title 5 U.S.C., as amended, for the review, discussion, and evaluation of individual intramural programs and projects conducted by the Clinical Center, including consideration of personnel qualifications and performance, and the competence of individual investigators, the disclosure of which would constitute a clearly unwarranted invasion of personal privacy.

Name of Committee: Board of Scientific Counselors of the NIH Clinical Center.

Date: March 25, 2024.

Time: 11:00 a.m. to 5:00 p.m.

Agenda: To review and evaluate the Pediatrics and Critical Care Medicine Department, Emerging Pathogens Section.

Place: Clinical Center, 10 Center Drive, Bethesda, MD 20892 (Virtual).

Name of Committee: Board of Scientific Counselors of the NIH Clinical Center.

Date: March 26, 2024.

Time: 11:00 a.m. to 12:30 p.m.

Agenda: To review and evaluate the Pediatrics and Critical Care Medicine Department, Emerging Pathogens Section.

Place: Clinical Center, 10 Center Drive, Bethesda, MD 20892 (Virtual).

Contact Person: Ronald Neumann, M.D., Deputy Scientific Director, Clinical Center, National Institutes of Health, 10 Center Drive, Bethesda, MD 20892, 301-496-6455, rneumann@cc.nih.gov.

Any interested person may file written comments with the committee by forwarding the statement to the Contact Person listed on this notice. The statement should include the name, address, telephone number and when applicable, the business or professional affiliation of the interested person.

Patricia B. Hansberger,
Deputy Director, Office of Federal Advisory Committee Policy.

[FR Doc. 2024-03441 Filed 2-20-24; 8:45 am]

BILLING CODE 4140-01-P